DEPARTMENT OF TRANSPORTATION

National Highway Traffic Safety Administration

49 CFR Part 579

[Docket No. NHTSA-2012-0068; Notice 7]

RIN 2127-AK72

Early Warning Reporting, Foreign Defect Reporting, and Motor Vehicle and Equipment Recall Regulations; Delay of Effective Date; Correction

AGENCY: National Highway Traffic Safety Administration (NHTSA), Department of Transportation (DOT).

ACTION: Final rule; delay of effective date; correction.

SUMMARY: On August 20, 2013, NHTSA published a final rule amending its Early Warning Rule (EWR) with an effective date of August 20, 2014. On July 28, 2014, NHTSA published a rule which, in part, attempted to delay the effective date of the provisions until January 1, 2015. However, the information in the DATES section of the July 28 rule did not adequately project that action. This document corrects that error.

DATES: This correction is effective August 20, 2014. The effective date for the amendments to 49 CFR 579.21 and 579.22, published August 20, 2013 (78 FR 51382), and effective August 20, 2014, is delayed until January 1, 2015.

FOR FURTHER INFORMATION CONTACT: For non-legal issues concerning early warning provisions, contact Leo Yon, Safety Defects Engineer, Early Warning Reporting Division, NHTSA, telephone 202-366-7028, email leo.yon@dot.gov. For legal issues, contact Andrew DiMarsico, Office of Chief Counsel, NHTSA, telephone 202-366-1834.

SUPPLEMENTARY INFORMATION: On August 20, 2013, NHTSA published a final rule amending certain provisions of the EWR regulations at 49 CFR part 579 Subpart C “Reporting of Early Warning Information.” 78 FR 51382. In summary, the new provisions:

• Require light vehicle manufacturers to specify the vehicle type and the fuel and/or propulsion system type in their quarterly EWR reports.

• Add new component categories for reporting on light vehicles: Electronic stability control, forward collision avoidance, lane departure prevention, and backover prevention, foundation brakes, and automatic brake controls.

• Add one new component category for buses, emergency vehicles, and medium-heavy vehicle manufacturers: Electronic stability control/roll stability control.

Need for Correction

The final rule stated that these new provisions will be effective August 20, 2014. On July 28, 2014, at 79 FR 43670, NHTSA intended to delay the effective date of the amendments to §§ 579.21 and 579.22 until January 1, 2015, but did not correctly state that in the DATES section.

In FR Doc. 2014-17497 appearing on page 43671 in the Federal Register of Monday, July 28, 2014, the following corrections are made:

In the DATES section in the left column, revise the second paragraph to read as follows:

“The effective date for the amendments to 49 CFR 579.21 in this final rule is January 1, 2015. The effective date for the amendments to 49 CFR 579.21 and 579.22, published August 20, 2013 (78 FR 51382), and effective August 20, 2014, is delayed until January 1, 2015.”

Nancy L. Lewis,
Associate Administrator for Enforcement.

[FR Doc. 2014-19091 Filed 8-13-14; 8:45 am]

BILLING CODE 4910-59-P